DEPARTMENT OF COMMERCE

National Oceanic and Atmospheric Administration

[Docket No. 030409079-3079-01; 040303A]

RIN 0648-ZB45

Coastal Services Center Financial Assistance for Coastal Observing System Projects

AGENCY: National Ocean Service (NOS), National Oceanic and Atmospheric Administration (NOAA), Commerce.

ACTION: Notice of availability of federal assistance.

SUMMARY: The NOAA Coastal Services Center is soliciting applications for federal assistance for the Director's Office in Coastal Observing System Support. This announcement provides guidelines which includes details for the evaluation criteria, and selection procedures. Selected recipients will enter into a grant with the Coastal Services Center.

DATES: Applications are due by 5 p.m., e.d.t., May 30, 2003. Applications received after that time will not be reviewed.

ADDRESSES: Send all proposals to NOAA Coastal Services Center, 2234 South Hobson Avenue, Charleston, South Carolina 29405-2413, Attention Geno Olmi, Room 234A.

FOR FURTHER INFORMATION CONTACT: Administrative questions should be directed to Violet Legette, 843-740-1222 or Violet.Legette@noaa.gov. Technical point of contact is Geno Olmi at 843-740-1230 or Geno.Olmi@noaa.gov.

SUPPLEMENTARY INFORMATION: The Coastal Services Center is soliciting applications for federal assistance for Coastal Observing System Projects. Recipients will enter into a grant with the Coastal Services Center.

All applicants are required to submit a NOAA Grants application package, budget narrative, curriculum Vitae for each principal investigator, and project proposal. The standard NOAA grants application package includes SF-424, SF-424A, SF-424B, CD-511, CD-512, SF-LLL and CD-346. These forms can be obtained from the NOAA grants Web site at http://www.rdc.noaa.gov/grants/pdf/. NOTE: CD-512 is a form that the recipient maintains. DO NOT submit this form to the Coastal Services Center. Also, SF-LLL should only be submitted as part of the grant application, if the recipient is reporting lobbying activities. If applicant is any of the following, a CD-346 is required to be submitted with grant application: sole proprietor, a partnership, a corporation, a joint venture and a non-profit organization. Other applicants are not required to submit a CD-346 with application.

If recipients have difficulty downloading grant forms, please contact Violet Legette at 843-740-1222 for assistance.

Authority

Statutory authority for this program is 16 U.S.C. 1456c.

CFDA Number: 11.473 Coastal Services Center.

Project Description

The Coastal Services Center seeks proposals for projects that enhance the organization, implementation, and application of regional coastal ocean observing systems. For the purposes of this announcement, coastal ocean observing systems are meant to include the sensors, personnel, and data management that obtain regular and sustained in-situ and/or remote observations of the physical, chemical, and biological environment of Great Lakes, estuaries, and the near shore ocean of the United States. Total available funding under this announcement is expected to not exceed $750,000. The Coastal Services Center desires to fund two types of projects to benefit the development of regional coastal ocean observing systems: (1) projects that facilitate building partnerships and regional organizational structures for regional observing systems, and (2) regional pilot projects.

For the first type of project, Regional Observation System Coordination, the Coastal Services Center seeks to fund projects that will engage stakeholders in a given region to develop collaborative partnerships (Regional Associations) among data collectors, data managers, and users of data and information from coastal ocean observing systems. Proposals should clearly articulate an approach to identify stakeholders, bring them together in a meaningful way, and develop plans for governance and communication, implementation, data management, and product development. The Coastal Services Center believes that it is important to engage end users in the design and implementation of observing systems to maximize the benefits to science and society. Of particular interest to the Coastal Services Center is the utility of such systems for management of coastal and ocean resources and for the benefit of coastal communities. Total available funding for this type of project is anticipated to be between $200,000 to $350,000, subject to the availability of federal appropriations. The Coastal Services Center expects to award two to five grants of $20,000 - $100,000 each under this announcement for Regional Observation System Coordination.

The second type of proposal requested is to support implementation of a Regional Coastal Ocean Observation Pilot Project. Pilot project(s) should demonstrate inter-institutional collaboration within a region for sensor deployment, data management, and creation of information products from the data collected. Projects should emphasize regular and sustained in-situ and/or remote observations of the physical, chemical, and biological coastal ocean environment. The pilot project should demonstrate data documentation and management protocols that meet or exceed national standards (FGDC compliant) and ensure accuracy and interoperability with the developing Integrated Ocean Observing System (IOOS). The pilot project should have a defined set of users and create information products relevant to those users. The Coastal Services Center encourages proposals that demonstrate active involvement of public mission agencies. The Coastal Services Center also encourages proposals that develop or sustain observing systems under the auspices of an established or planned regional association with a defined governance structure. Total available funding for Regional Pilot Project(s)is anticipated to be between $250,000 to $500,000, subject to the availability of federal appropriations. The Coastal Services Center expects to award only one to two grants under this announcement.

Background

The National Oceanic and Atmospheric Administration has a long-standing responsibility to observe, assess and predict conditions in the Nation's oceans and atmosphere. NOAA has a number of operational programs that routinely and systematically measure environmental variables in the atmosphere, open and coastal ocean, estuaries, and the Great Lakes. In addition to its own operational programs, NOAA develops collaborative partnerships with states, universities and for profit and non-profit organizations to increase the scope of its environmental data collection.

Congress has directed the interagency National Ocean Research Leadership Council to develop a plan by which the nation can achieve an Integrated Ocean Observing System. Responsibility for development of this plan has been given to the Ocean.US Office www.ocean.us. The Integrated Ocean Observing System is envisioned to consist of a “national backbone” of federally-maintained observations integrated with “regional” systems that contribute to and benefit from the national backbone and also focus on interests of a local/regional nature. Integration of regional and national components into a national coastal observing system will rely on common data management standards that allow data integration to create products that benefit a broad community of users. While the fully mature IOOS is envisioned to be mostly operational in nature, the developmental stages are expected to include research, pilot, pre-operational and operational components.

The Coastal Services Center has a strong interest in working with regional observing systems and partners to achieve integration into a national system. The Coastal Services Center is particularly interested in regional systems that provide timely and appropriate information to public mission agencies. Therefore, the Coastal Services Center anticipates offering grant funds to projects that help achieve these goals.

Project Proposals

The applicant must submit one original and two copies of the proposal(s) by 5 p.m. (Eastern time) on May 30, 2003 to the attention of Geno Olmi, Room 234A at the NOAA Coastal Services Center, 2234 South Hobson Avenue, Charleston, SC 29405-2413. In addition to the proposal(s), the applicant must submit a complete NOAA grant application package (with signed originals). No e-mail or fax copies will be accepted. All project proposals must total no more than 20 pages (double spaced, 12-point font, and exclusive of appendices). Appendices should be limited to materials that directly support the main body of the proposal (e.g., support letters, resumes, lists of data sources, maps). Letters of support may be mailed separately, but must be received by the 30 May 2003, deadline. All appendix material must be unbound. All proposals must include sections on the seven following topics:

1. Background. Provide sufficient background information for reviewers to independently assess the significance of the proposed project. Summarize the problem to be addressed and the status of your ongoing efforts to address the problem.

2. Benefits. Identify specific potential users of the information derived from this work and the benefits that will be achieved to those users as well as society as a whole. Describe how this information from this project will be delivered to those users.

3. Goal(s) and Objective(s). Describe in the narrative the specific project goals and objectives to be achieved. Describe how these project goals support the broader goals of the Integrated Ocean Observing System.

4. Project Description/Methodology. Provide a general work plan that identifies specific tasks to be accomplished, explains the technical approach (including quality control protocols) needed to accomplish the tasks, identifies the roles of partners and cooperators, and identifies potential obstacles to successful completion of the goals and objectives. Describe how potential users are involved in the planning and design process.

5. Milestone Schedule. Display time lines for major tasks, target milestones for important intermediate and final products, and key project outcomes. The time period (period of performance) for the award may be 1-3 years, but funding is assured for only the first year.

6. Project Budget. Provide a detailed budget description that follows the categories and formats in the NOAA grants package and a brief narrative justification of the budget.

7. Resumes. Provide resumes of the Principal Investigator for the project and for other key personnel critical to the success of the project. Ensure that resumes address qualifications relevant to conducting the proposed work. Please limit to two pages for each.

Evaluation Criteria (with Weights) and Selection Process

A review panel, composed of two NOAA and two non-NOAA reviewers, will be established to evaluate the proposals on the basis of the evaluation criteria listed below. The panelists will provide individual evaluations of proposals, thus there will be no consensus recommendation. All proposals reviewed will be ranked according to the average score and the selecting official (the Center's Director) will use those rankings as the basis for the final funding decisions. The selecting official may also consider the following program policy factors: geographic and institutional balance. Thus proposals with the highest scores may not necessarily be selected for award. Reviewers of the proposal will be asked to judge the merits of the proposal with respect to the following criteria:

1. Significance (25%):

How well does the proposal demonstrate that the project will directly or indirectly address critical national, regional, state or local management needs? Are the goals and objectives clearly articulated and relevant tot he stated management or science need?

2. Approach (20%):

Is the technical approach appropriate for the stated goals and objectives? Are the goals and objectives achievable within the proposed timeframe? Does the proposed approach follow a logical work plan with clearly defined and measurable milestones? Do the proposed approaches incorporate innovative or state of the art methodologies? Does the proposal explicitly address data management practices that meet or exceed FGDC standards and promote interoperability with other components of a national ocean observing system?

3. Project Management (10%):

Does the proposal demonstrate institutional support for the project? Are the principal investigators and the organizational framework and personnel qualified to conduct a project of the nature and scope proposed?

4. Partnerships (15%):

Does the proposed project engage external partners to make effective use of complimentary capabilities and competencies beneficial to this project? Is the user community clearly identified and are members of the identified user community engaged in the design and execution of the project or its products? Is duplication of effort reduced through strategic partnerships?

5. Application of Results (20%):

Does the proposal demonstrate that it will significantly address relevant science and management issues? Does the proposal demonstrate that information generated by the project will reach its target audience and have a positive impact on the users ability to perform their responsibilities? Does the proposal include outreach and education components that will ensure the results are effectively applied to address the identified issues?

6. Cost Efficiency (10%):

Does the proposal demonstrate that the budget is commensurate with project needs?

Selection Schedule

Proposals will be reviewed once during the year. The following schedule lists the dates for the project selection and award process for grants: Proposal Deadline (with completed grant package) May 30, 2003. The review process will take up to three months, and applicants will not be notified of the status of their application until the review process is completed. Earliest Approximate Grant Start Date 1 October 2003. Note: All deadlines are for receipt by close of business (5 p.m. Eastern time) on the dates identified. Receipt of proposal and grant package (with original signatures) will be time stamped. Unsuccessful applications will be destroyed by the Program Manager and not returned to the applicant.

Funding Availability

Total funding available for the Coastal Observing System Projects with the Director's Office is anticipated to be no more than $750,000 and funding will be distributed among multiple Projects. The Coastal Services Center desires to fund two types of projects to benefit the development of regional coastal ocean observing systems: (1) projects that facilitate building partnerships and regional organizational structures for regional observing systems (estimated funding for this type of project is anticipated to be between $200,000 to $350,000 with two to five grants being awarded ranging from $20,000 to $100,000), and (2) regional pilot projects (estimated funding for this type of project is anticipated to be between $250,000 to $500,000 with only one or two grants being awarded). Publication of this document does not obligate NOAA to fund any specific grant or to award all or any parts of the available funds.

Cost Sharing

There is no requirement for cost sharing in response to this program announcement.

Eligibility Criteria

Eligible applicants are institutions of higher education, non-profit and for-profit organizations, foreign governments, organizations under the jurisdiction of foreign governments, international organizations, and state, local and Indian tribal governments. Organizations are encouraged to collaborate in development of multi-institutional proposals, however, funding for such a proposal must be awarded to a single (lead) entity that then has responsibility for administration and execution of any subawards. Federal agencies or institutions are not eligible to receive Federal assistance under this announcement, but may be project partners. Note: Federal agencies or institutions who are project partners must demonstrate that they have legal authority to receive funds from outside sources in excess of their appropriation.

General Information

The Department of Commerce Pre-Award Notification Requirements for Grants and Cooperative Agreements contained in the Federal Register notice of October 01, 2001 (66 FR 49917), as amended by the Federal Register notice published on October 30, 2002 (67 FR 66109), is applicable to this solicitation.

Applications under this program are subject to Executive Order 12372, “Intergovernmental Review of Federal Programs.”

It has been determined that this notice does not contain policies with Federalism implications as that term is defined in Executive Order 13132.

The recipients must comply with Executive Order 12906 regarding any and all geospatial data collected or produced under grants or cooperative agreements. This includes documenting all geospatial data in accordance with the Federal Geographic Data Committee Content Standard for digital geospatial data.

Classification

This action has been determined to be not significant for purposes of Executive Order 12866.

Prior notice and an opportunity for public comment are not required by the Administrative Procedure Act (APA) or any other law for this notice concerning grants, cooperative agreements, benefits, and contracts, 5 U.S.C. 533 (a) (2). Therefore, a regulatory flexibility analysis is not required for purposes of the Regulatory Flexibility Act (RFA), 5 U.S.C. 601 et. seq and has not been prepared.

Notwithstanding any other provision of law, no person is required to respond to, nor shall any person be subject to a penalty for failure to comply with, a collection of information subject to the Paperwork Reduction Act, unless that collection displays a currently valid OMB control number. The use of the standard grants application package referred to in this notice involves collection-of-information requirements subject to the Paperwork Reduction Act. The use of Standard Forms 424, 424A, 424B, SF-LLL, and CD-346 have been approved by OMB under the respective Control Numbers 0348-0043, 0348-0044, 0348-0040, 0348-0046, and 0605-0001.

Dated: April 14, 2003.
Jamison S. Hawkins,
Acting Assistant Administrator for Ocean Services and Coastal Zone Management

[FR Doc. 03-9634 Filed 4-17-03; 8:45 am]

BILLING CODE 3510-JE-S